DEPARTMENT OF HEALTH AND HUMAN SERVICES

Centers for Disease Control and Prevention

[60Day-09-0008]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam Daneshvar, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Emergency Epidemic Investigations—Extension—(0920-0008), Office of Workforce and Career Development (OWCD), Centers for Disease Control and Prevention (CDC).

Background & Brief Description

The purpose of the Emergency Epidemic Investigation surveillance is to collect data on the conditions surrounding and preceding the onset of a problem. The data must be collected in a timely fashion so that information can be used to develop prevention and control techniques, to interrupt disease transmission, and to help identify the cause of an outbreak. The EPI-AID mechanism is a means for Epidemic Intelligence Service (EIS) officers of the Centers for Disease Control and Prevention (CDC), along with other CDC staff, to provide technical support to State health agencies requesting assistance with epidemiologic field investigations. This mechanism allows CDC to respond rapidly to public health problems in need of urgent attention, thereby providing an important service to State and other public health agencies. Through EPI-AIDS, EIS officers (and, sometimes, other CDC trainees) receive supervised training while actively participating in epidemiologic investigations. EIS is a two-year program of training and service in applied epidemiology through CDC, primarily for persons holding doctoral degrees.

Shortly after completion of the EPI-AID investigation, an Epi Trip Report is delivered to the State health agency official(s) who requested assistance. These officials can comment on both the timeliness and the practical utility of the recommendations from the investigation by completing a brief questionnaire to assess the promptness of the investigation and the usefulness of the recommendations. There is no cost to the respondents other than their time.

Estimated Annualized Burden Hours
Respondents | Number of respondents (per year) | Number of responses per respondent | Average burden per response (in hours) | Total burden (in hours)
Requestors of EPI-AIDs | 100 | 1 | 15/60 | 25

Dated: August 10, 2009.
Maryam I. Daneshvar,
Acting Reports Clearance Officer, Centers for Disease Control and Prevention.

[FR Doc. E9-19836 Filed 8-18-09; 8:45 am]

BILLING CODE 4163-18-P